DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of January 23, 2026 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Jeffrey Jackson,
Deputy Assistant Administrator, Federal Insurance Directorate, Resilience, Federal Emergency Management Agency, Department of Homeland Security.

Community | Community map repository address
Madison County, Alabama and Incorporated Areas
Docket No.: FEMA-B-2347
City of Huntsville | City Hall, 305 Fountain Circle, Huntsville, AL 35801.
Unincorporated Areas of Madison County | Madison County Department of Public Works, Engineering Department, 266-C Shields Road, Huntsville, AL 35811.
Shelby County, Alabama and Incorporated Areas
Docket Nos.: FEMA-B-2177 and FEMA-B-2385
City of Alabaster | City Hall, 1953 Municipal Way, Alabaster, AL 35007.
City of Calera | Engineering Department, 1074 10th Street, Calera, AL 35040.
City of Chelsea | City Hall, 11611 Chelsea Road, Chelsea, AL 35043.
City of Columbiana | City Hall, 107 Mildred Street, Columbiana, AL 35051.
Town of Harpersville | Town Hall, 39321 Highway 25, Harpersville, AL 35078.
Town of Westover | Town Hall, 3312 Westover Road, Westover, AL 35147.
Town of Wilsonville | Town Hall, 9905 North Main Street, Wilsonville, AL 35186.
Unincorporated Areas of Shelby County | Shelby County Highway Department, County Engineer's Office, 506 Alabama Highway 70, 2nd Floor, Columbiana, AL 35051.
Kearney County, Nebraska and Incorporated Areas
Docket No.: FEMA-B-2463
City of Minden | City Hall, 325 North Colorado Avenue, Minden, NE 68959.
Unincorporated Areas of Kearney County | Kearney County Zoning Office, 424 North Colorado Avenue, Minden, NE 68959.
Village of Axtell | Village Clerk's Office, 419 Main Avenue, Axtell, NE 68924.
Village of Heartwell | Community Center, 210 Main Street, Heartwell, NE 68945.
Village of Norman | Village Hall, 116 Norman Avenue, Norman, NE 68959.
City of Bayard, Morrill County, Nebraska
Docket No.: FEMA-B-2470
City of Bayard | City Hall, 445 Main Street, Bayard, NE 69334.
Merrimack County, New Hampshire (All Jurisdictions)
Docket No.: FEMA-B-2369
City of Concord | Engineering Department, 41 Green Street, Concord, NH 03301
City of Franklin | City Hall, 316 Central Street, Franklin, NH 03235
Town of Allenstown | Town Hall, 16 School Street, Allenstown, NH 03275
Town of Boscawen | Municipal Facility, 116 North Main Street, Boscawen, NH 03303
Town of Bow | Town Hall, 10 Grandview Road, Bow, NH 03304
Town of Canterbury | Sam Lake House, 10 Hackleboro Road, Canterbury, NH 03224
Town of Chichester | Town Hall, 54 Main Street, Chichester, NH 03258
Town of Dunbarton | Town Hall, 1011 School Street, Dunbarton, NH 03046
Town of Epsom | Town Offices, 1598 Dover Road, Epsom, NH 03234
Town of Hooksett | Town Hall, 35 Main Street, Hooksett, NH 03106
Town of Hopkinton | Town Hall, 330 Main Street, Hopkinton, NH 03229
Town of Loudon | Town Offices, 55 South Village Road, Loudon, NH 03307
Town of Northfield | Town Hall, 21 Summer Street, Northfield, NH 03276
Town of Pembroke | Town Hall, 311 Pembroke Street, Pembroke, NH 03275
Town of Pittsfield | Town Hall, 85 Main Street, Pittsfield, NH 03263
Town of Salisbury | Academy Hall, 9 Old Coach Road, Salisbury, NH 03268
Cook County, Illinois and Incorporated Areas
Docket No.: FEMA-B-2350
City of Elgin | Public Works Department, Engineering Department, 150 Dexter Court, Elgin, IL 60120.
Unincorporated Areas of Cook County | Cook County Building and Zoning Department, 69 West Washington Street, Suite 2830, Chicago, IL 60602.
Village of Barrington Hills | Village Hall, 112 Algonquin Road, Barrington Hills, IL 60010.
Village of Hoffman Estates | Village Hall, 1900 Hassell Road, Hoffman Estates, IL 60169.
Village of Inverness | Village Hall, 1400 Baldwin Road, Inverness, IL 60067.
Village of Schaumburg | Atcher Municipal Center, Community Development Department, 101 Schaumburg Court, Schaumburg, IL 60193.
Village of South Barrington | Village Hall, 30 South Barrington Road, South Barrington, IL 60010.
Village of Streamwood | Public Works Department, 565 South Bartlett Road, Streamwood, IL 60107.
Kane County, Illinois and Incorporated Areas
Docket No.: FEMA-B-2350
City of Elgin | Public Works Department, Engineering Department, 150 Dexter Court, Elgin, IL 60120.
Unincorporated Areas of Kane County | Water Resources Department, Kane County Government Center, 719 South Batavia Avenue, Building A, Geneva, IL 60134.
Village of South Elgin | Community Development Office, 10 North Water Street, South Elgin, IL 60177.

[FR Doc. 2025-16376 Filed 8-26-25; 8:45 am]

BILLING CODE 9110-12-P